ENVIRONMENTAL PROTECTION AGENCY

[FRL-9948-80-OECA]

National Environmental Justice Advisory Council; Notification of Public Teleconference and Public Comment

AGENCY: Environmental Protection Agency (EPA).

ACTION: Notification of public teleconference.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering to attend the meeting or to provide public comment, please see “Registration” under SUPPLEMENTARY INFORMATION. Due to a limited number of telephone lines, attendance will be on a first-come, first served basis. Pre-registration is required.

DATES: The NEJAC will host a public teleconference meeting on Wednesday, July 20, 2016, at 3:00 p.m. Eastern Time. The topics of discussion will include: (1) Water infrastructure financing in vulnerable and overburdened communities and (2) the implementation and outreach of EPA's Revised Agricultural Worker Protection Regulation. Public comment period relevant to the specific issues being considered by the NEJAC (see SUPPLEMENTARY INFORMATION) is scheduled for Wednesday, July 20, 2016 starting at 5:00 p.m. Eastern Time. Members of the public who wish to participate during the public comment period are highly encouraged to pre-register by 11:59 p.m., Eastern Time, on Monday, July 18, 2016.

FOR FURTHER INFORMATION CONTACT: Questions or correspondence concerning the teleconference meeting should be directed to Karen L. Martin, U.S. Environmental Protection Agency, by mail at 1200 Pennsylvania Avenue NW., (MC2201A), Washington, DC 20460; by telephone at 202-564-0203; via email at martin.karenl@epa.gov; or by fax at 202-564-1624. Additional information about the NEJAC is available at: www.epa.gov/environmentaljustice/nejac.

SUPPLEMENTARY INFORMATION: The Charter of the NEJAC states that the advisory committee “will provide independent advice and recommendations to the Administrator about broad, crosscutting issues related to environmental justice. The NEJAC's efforts will include evaluation of a broad range of strategic, scientific, technological, regulatory, community engagement and economic issues related to environmental justice.”

Registration

Registrations for the July 20, 2016, pubic teleconference will be processed http://nejac-teleconference-july-20-2016.eventbrite.com. Pre-registration is required. Registration for the July 20, 2016, teleconference meeting closes at 11:59 p.m., Eastern Time on Monday, July 18, 2016. The deadline to sign up to speak during the public comment period, or to submit written public comments, is also 11:59 p.m., Eastern Time Monday, July 18, 2016. When registering, please provide your name, organization, city and state, email address, and telephone number for follow up. Please also state whether you would like to be put on the list to provide public comment, and whether you are submitting written comments before the Monday, July 18, 2016, 11:59 p.m. Due to a limited number of telephone lines, attendance will be on a first-come, first served basis.

Public Comment

Individuals or groups making remarks during the public comment period will be limited to seven (7) minutes. To accommodate the number of people who want to address the NEJAC, only one representative of a particular community, organization, or group will be allowed to speak. Written comments can also be submitted for the record. The suggested format for individuals providing public comments is as follows: Name of speaker; name of organization/community; city and state; and email address; brief description of the concern, and what you want the NEJAC to advise EPA to do. Written comments received by registration deadline, will be included in the materials distributed to the NEJAC prior to the teleconference. Written comments received after that time will be provided to the NEJAC as time allows. All written comments should be sent to Karen L. Martin, EPA, via email at martin.karenl@epa.gov.

Information About Services for Individuals With Disabilities or Requiring English Language Translation Assistance

For information about access or services for individuals requiring assistance, please contact Karen L. Martin, at (202) 564-0203 or via email at martin.karenl@epa.gov. To request special accommodations for a disability or other assistance, please submit your request at least seven (7) working days prior to the meeting, to give EPA sufficient time to process your request. All requests should be sent to the address, email, or phone/fax number listed in the FOR FURTHER INFORMATION CONTACT section.

Dated: June 28, 2016.
Matthew Tejada,
Designated Federal Officer, National Environmental Justice Advisory Council.

[FR Doc. 2016-16129 Filed 7-6-16; 8:45 am]

BILLING CODE 6560-50-P